DEPARTMENT OF TRANSPORTATION

Office of the Secretary, Washington, DC; Secretarial Determination

SUMMARY: The Secretary of Transportation has now determined that Port-au-Prince International Airport, Port-au-Prince, Haiti, maintains and carries out effective security measures.

Notice

By Order 98-1-24, issued January 23, 1998, the Secretary of Transportation made public his determination that Port-au-Prince International Airport did not maintain and carry out effective security measures. I now find that Port-au-Prince International Airport maintains and carries out effective security measures. My determination is based on a recent Federal Aviation Administration (FAA) assessment which reveals that security measures used at the airport now meet or exceed the Standards established by the International Civil Aviation Organization. Accordingly, I am removing the public notification requirements imposed by Order 98-1-24.

I have directed that a copy of this notice be published in the Federal Register and that the news media be notified of my determination. As a result of this determination, the FAA will direct that signs posted in the U.S. airports relating to the 1998 determination be removed.

Dated: February 11, 2000.
Rodney E. Slater,
Secretary of Transportation.

[FR Doc. 00-3659 Filed 2-15-00; 8:45 am]

BILLING CODE 4910-62-P